DEPARTMENT OF JUSTICE

Notice of Lodging of Consent Decree Under the Clean Air Act

Notice is hereby given that on December 10, 2010, a proposed Consent Decree (the “Decree”) in United States and Puget Sound Clean Air Agency v. U.S. Oil & Refining Co., Case No. 3:10-cv-05899, was lodged with the United States District Court for the Western District of Washington.

In a complaint filed on the same day, the United States alleged that U.S. Oil & Refining Co. (“U.S. Oil”) was liable for violations at its refinery in Tacoma, Washington, pursuant to Section 113(b), 42 U.S.C. 7413(b). Specifically, the complaint alleges that U.S. Oil violated the National Emission Standards for Hazardous Air Pollutants for Benzene Waste Operations (the “Benzene NESHAP”), 40 CFR part 61, Subpart FF, the National Emission Standards for Hazardous Air Pollutants for Petroleum Refineries concerning leak detection and repair (the “LDAR regulations”), 40 CFR part 63, Subpart CC, and the National Emission Standards for Hazardous Air Pollutants for Petroleum Refineries concerning emissions from catalytic reforming units and sulfur recovery plants, 40 CFR part 63, Subpart UUU. The complaint also alleges violations of Title V of the Clean Air Act, 42 U.S.C. 7661-7661f.

Pursuant to the Decree, U.S. Oil will: (1) Pay a civil penalty of $230,000; (2) implement at least $746,000 in supplemental environmental projects; (3) enhance U.S. Oil's Benzene NESHAP compliance program; and (4) implement measures, in addition to compliance with the LDAR regulations, to minimize or eliminate fugitive emissions from components in the light liquid and gaseous service in its refinery.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States and Puget Sound Clean Air Agency v. U.S. Oil & Refining Co., D.J. Ref. 90-5-2-1-09514.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $19.25 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-31551 Filed 12-15-10; 8:45 am]

BILLING CODE 4410-15-P